ENVIRONMENTAL PROTECTION AGENCY

40 CFR Parts 268 and 271

[EPA-HQ-RCRA-2008-0332; FRL-9318-3]

RIN 2050-AG65

Land Disposal Restrictions: Revision of the Treatment Standards for Carbamate Wastes

AGENCY: Environmental Protection Agency.

ACTION: Proposed rule.

SUMMARY: The Environmental Protection Agency (EPA or the Agency) is proposing to revise the Land Disposal Restrictions (LDR) treatment standards for hazardous wastes from the production of carbamates and carbamate commercial chemical products, off-specification or manufacturing chemical intermediates and container residues that become hazardous wastes when they are discarded or intended to be discarded. Currently, under the LDR program, most carbamate wastes must be treated to meet numeric concentration limits before they can be land disposed. However, the lack of readily available analytical standards makes it difficult to measure whether the numeric LDR concentration limits have been met. Therefore, we are proposing as an alternative the use of the best demonstrated available technologies (BDAT) for treating these wastes. In addition, this action proposes to remove the carbamate Regulated Constituents from the table of Universal Treatment Standards.

DATES: Written comments must be received by July 13, 2011.

ADDRESSES: Submit your comments, identified by Docket ID No. EPA-HQ-RCRA-2008-0332, by one of the following methods:

• http://www.regulations.gov: Follow the on-line instructions for submitting comments.

• E-mail: rcra-docket@epa.gov and jackson.mary@epa.gov. Attention Docket ID No. EPA-HQ-RCRA-2008-0332.

• Fax: 202-566-9744. Attention Docket ID No. EPA-HQ-RCRA-2008-0332.

• Mail: RCRA Docket (28221T), U.S. Environmental Protection Agency, 1200 Pennsylvania Avenue, NW., Washington, DC 20460. Attention Docket ID No. EPA-HQ-RCRA-2008-0332. Please include a total of 2 copies.

• Hand Delivery: Please deliver 2 copies to the EPA Docket Center (EPA/DC), EPA West, Room 3334, 1301 Constitution Ave., NW., Washington, DC. Such deliveries are only accepted during the Docket's normal hours of operation, and special arrangements should be made for deliveries of boxed information.

Instructions: Direct your comments to Docket ID No. EPA-HQ-RCRA-2008-0332. EPA's policy is that all comments received will be included in the public docket without change and may be made available online at http://www.regulations.gov, including any personal information provided, unless the comment includes information claimed to be Confidential Business Information (CBI) or other information whose disclosure is restricted by statute. Do not submit information that you consider to be CBI or otherwise protected through www.regulations.gov or e-mail. The http://www.regulations.gov Web site is an “anonymous access” system, which means EPA will not know your identity or contact information unless you provide it in the body of your comment. If you send an e-mail comment directly to EPA without going through www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket, visit the EPA Docket Center homepage at http://www.epa.gov/epahome/dockets.htm.

Docket: All documents in the docket are listed in the http://www.regulations.gov index. Although listed in the index, some information is not publicly available, e.g., CBI or other information whose disclosure is restricted by statute. Certain other material, such as copyrighted material, will be publicly available only in hard copy. Publicly available docket materials are available either electronically in www.regulations.gov or in hard copy at the HQ-Docket Center, Docket ID No. EPA-HQ-RCRA-2008-0332, EPA West, Room 3334, 1301 Constitution Ave., NW., Washington, DC. The EPA Docket Center is open from 8:30 a.m. to 4:30 p.m., Monday through Friday, excluding legal holidays. The telephone number for the Public Reading Room is (202) 566-1744, and the telephone number for the RCRA Docket is (202) 566-0270. A reasonable fee may be charged for copying docket materials.

FOR FURTHER INFORMATION CONTACT: For more information on this proposed rulemaking, contact Mary Jackson, Office of Resource Conservation and Recovery (MC: 5304P), U.S. Environmental Protection Agency, 1200 Pennsylvania Ave., NW., Washington, DC 20460. She can also be reached by telephone on 703-308-8453 or by e-mail at jackson.mary@epa.gov.

SUPPLEMENTARY INFORMATION:

I. Why is EPA issuing this proposed rule?

EPA is proposing to revise the Land Disposal Restrictions (LDR) treatment standards for hazardous wastes from the production of carbamates and carbamate commercial chemical products, off-specification or manufacturing chemical intermediates and container residues that become hazardous wastes when they are discarded or intended to be discarded. This action is being taken because there may be no analytical standards readily available with which to measure compliance with the LDR requirements. An analytical standard is a reference material with a known concentration of a target chemical that is used to calibrate analytical instruments in order to confirm detection and quantification of that chemical.

RCRA LDR-related statutory language prohibits the land disposal of hazardous wastes unless wastes meet treatment standards set as concentration-based limits or methods of treatment designed to substantially diminish a hazardous waste's toxicity and/or mobility. Currently under the LDR program, most carbamate hazardous wastes must be treated to meet numeric concentration limits before the wastes can be land disposed. The lack of readily available analytical standards makes it difficult to measure whether the numeric concentration limits have been met. Therefore, we are proposing as an alternative the use of the best demonstrated available technologies for treating these wastes. This will provide significant treatment to minimize threats to human health and the environment, while avoiding the problems that result from the lack of analytical standards when determining if the numeric concentration limits have been met.

In addition, this action proposes to remove the carbamate Regulated Constituents from the table of Universal Treatment Standards at 40 CFR 268.48. We are taking this action so that they are not classified as underlying hazardous constituents requiring treatment to meet numeric concentration limits in wastes that display the characteristic of ignitability, reactivity, corrosivity or toxicity at the point of generation.

Today's proposed rule is necessary to allow hazardous waste management facilities to certify under 268.7 that carbamate-bearing wastes have been treated in compliance with the applicable LDR requirements. These facilities face potential curtailment of operations when they are unable to demonstrate waste and treatment residual concentrations meet the numerical LDR treatment standards through analytical testing.

In the Rules and Regulations section of this Federal Register, we are taking Direct Final action on the proposed amendments because we view them as uncontroversial, and we anticipate no adverse comments. If we receive no adverse comments, we will take no further action on the proposed amendments and the Direct Final Rule will become effective as provided in that section. If we receive adverse comments, however, we will withdraw those amendments for which adverse comment was received. We will publish a timely withdrawal in the Federal Register indicating the amendments being withdrawn. If any of the Direct Final Rule amendments in the Rules and Regulations section of this Federal Register are withdrawn, all comments will be addressed in a subsequent final action based on the proposed amendments. We will not institute a second proposal or allow for a comment period on the subsequent final action. Therefore, any parties interested in commenting must do so at this time.

The regulatory text for the proposal is identical to that for the Direct Final Rule published in the Rules and Regulations section of this Federal Register. For further supplementary information, see the Direct Final Rule.

Tips for Preparing Your Comments. When submitting comments, remember to:

• Identify the rulemaking by docket number and other identifying information (subject heading, Federal Register date and page number).

• Follow directions—The agency may ask you to respond to specific questions or organize comments by referencing a Code of Federal Regulations (CFR) part or section number.

• Explain why you agree or disagree; suggest alternatives and substitute language for your requested changes.

• Describe any assumptions and provide any technical information and/or data that you used.

• If you estimate potential costs or burdens, explain how you arrived at your estimate in sufficient detail to allow for it to be reproduced.

• Provide specific examples to illustrate your concerns, and suggest alternatives.

• Explain your views as clearly as possible.

• Make sure to submit your comments by the comment period deadline identified.

II. Statutory and Executive Order Reviews

For a complete discussion of all of the administrative requirements applicable to this action, see the Direct Final Rule in the Rules and Regulations section of today's Federal Register.

The Regulatory Flexibility Act

The Regulatory Flexibility Act (RFA) generally requires an agency to prepare a regulatory flexibility analysis of any rule subject to notice and comment rulemaking requirements under the Administrative Procedure Act or any other statute unless the agency certifies that the rule will not have a significant economic impact on a substantial number of small entities. Small entities include small businesses, small organizations, and small governmental jurisdictions.

For purposes of assessing the impacts of today's rule on small entities, small entity is defined as (1) a small business that is primarily engaged in hazardous waste treatment and disposal as defined by NAICS code 562211 with annual receipts of less than 12.5 million dollars (based on Small Business Administration size standards); (2) a small governmental jurisdiction that is a government of a city, county, town, school district or special district with a population of less than 50,000; and (3) a small organization that is any not-for-profit enterprise which is independently owned and operated and is not dominant in its field.

This rule will not have a significant economic impact on a substantial number of small entities because its merely establishes alternative treatment standards expressed as technologies that may be used to treat the carbamate hazardous waste under the LDR program. These carbamate hazardous wastes already are subject to numeric treatment standards under the LDR program, and thus, this rule will have no new impacts. Therefore, we hereby certify that this rule will not add any new regulatory requirements to small entities, and does not require a regulatory flexibility analysis.

List of Subjects

40 CFR Part 268

Environmental protection, Hazardous waste, Land disposal restrictions.

40 CFR Part 271

Environmental protection, Hazardous waste.

Dated: June 7, 2011.
Lisa P. Jackson,
Administrator.

[FR Doc. 2011-14592 Filed 6-10-11; 8:45 am]

BILLING CODE 6560-50-P